DEPARTMENT OF ENERGY

Secretary of Energy Advisory Board; Notice of Open Teleconference Meeting

SUMMARY: This notice announces an open teleconference meeting of the Secretary of Energy Advisory Board's Laboratory Operations Board. The Federal Advisory Committee Act (Public Law 92-463, 86 Stat. 770), requires that agencies publish these notices in the Federal Register to allow for public participation. The purpose of the teleconference is to discuss the findings and recommendations of a draft report prepared by a Laboratory Operations Board (LOB) Working Group. The Working Group reviewed the Department of Energy's Laboratory Directed Research and Development (LDRD) Program, which funds discretionary research and development at the Department's multi-program laboratories. The review is intended to provide independent external advice regarding the value, quality, nature of oversight and continued need and appropriate level of support for laboratory directed research and development at the Department's laboratories.

Name: Secretary of Energy Advisory Board—Laboratory Operations Board.

Dates: Thursday, January 27, 2000, 10:30 A.M.-12:30 P.M., Eastern Standard Time.

Addresses: Participants may call the Office of the Secretary of Energy Advisory Board at (202) 586-7092 to reserve a teleconference line and receive a call-in number. Public participation is welcomed. However, the number of teleconference lines is limited. Lines are available on a first come basis.

FOR FURTHER INFORMATION CONTACT: Betsy Mullins, Executive Director, or Laurie Keaton, LOB Staff Director, Office of Secretary of Energy Advisory Board (AB-1), US Department of Energy, 1000 Independence Avenue, SW, Washington, D.C. 20585, (202) 586-7162 or (202) 586-6279 (fax).

SUPPLEMENTARY INFORMATION: The purpose of the Laboratory Operations Board is to provide independent external advice to the Secretary of Energy Advisory Board regarding the strategic direction of the Department's laboratories, the coordination of budget and policy issues affecting laboratory operations, and the reduction of unnecessary and counterproductive management burdens on the laboratories. The Laboratory Operations Board's goal is to facilitate the productive and cost-effective utilization of the Department's laboratory system and the application of best business practices.

Note: Copies of the draft report may be obtained from the following Internet address: http://www.hr.doe.gov/seab/ or by contacting the Office of the Secretary of Energy Advisory Board at (202) 586-7092.

Tentative Agenda

Thursday, January 27, 2000

10:30A.M.-10:45 A.M.

Opening Remarks—Co-Chairs: E. Moniz & J. McTague

10:45 A.M.-11:15 A.M.

Overview of the LDRD Working Group Findings and Recommendations—Dr. Paul Fleury, Working Group Chairman

11:15 A.M.-12:00 P.M.

Public Comment Period

12:00 P.M.-12:15 P.M.

LDRD Working Group Comment and Action—Dr. Paul Fluery, LDRD Working Group Chairman

12:15 P.M.-12:30 P.M.

LOB Review and Comment

12:30 P.M.

Adjourn

This tentative agenda is subject to change.

Public Participation: In keeping with procedures, members of the public are welcome to monitor the business of the Laboratory Operations Board and to submit written comments or comment during the scheduled public comment period. The teleconference meeting will be conducted in a fashion that will, in the Co-Chairs' judgment, facilitate the orderly conduct of business. During its open teleconference meeting, the Laboratory Operations Board welcomes public comment. Members of the public will be heard in the order in which they sign up at the beginning of the meeting. The Board will make every effort to hear the views of all interested parties. You may submit written comments to Betsy Mullins, Executive Director, Secretary of Energy Advisory Board, AB-1, US Department of Energy, 1000 Independence Avenue, SW, Washington, D.C. 20585. This notice is being published less than 15 days before the date of the meeting due to the late resolution of programmatic issues.

Minutes: A copy of the minutes and a transcript of the meeting will be made available for public review and copying approximately 30 days following the meeting at the Freedom of Information Public Reading Room, 1E-190 Forrestal Building, 1000 Independence Avenue, SW, Washington, D.C., between 9:00 A.M. and 4:00 P.M., Monday through Friday except Federal holidays. Further information on the Laboratory Operations Board is available at the Secretary of Energy Advisory Board's web site, located at http://www.hr.doe.gov/seab.

Issued at Washington, D.C., on January 18, 2000.
Rachel M. Samuel,
Deputy Advisory Committee Management Officer.

[FR Doc. 00-1626 Filed 1-21-00; 8:45 am]

BILLING CODE 6450-01-P